DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northeast Region Logbook Family of Forms.

OMB Control Number: 0648-0212.

Form Number(s): NOAA Forms 88-30 and 88-140.

Type of Request: Regular submission.

Number of Respondents: 4,346.

Average Hours per Response: Logbooks, 5 minutes (12 minutes for shellfish logbooks); catch reports through Interactive Voice Response (IVR), 4 minutes; catch reports through vessel monitoring systems, 15 minutes.

Burden Hours: 12,119.

Needs and Uses: Under the authority of the Magnuson-Stevens Fishery Conservation and Management Act and the Fishery Management Council and Plan developed under this authority, fishing vessels permitted to participate in Federally-permitted fisheries in the Northeast Region are required to submit logbooks containing catch and effort information about their fishing trips. The participants in the herring, tilefish and red crab fisheries are also required to make reports on the catch through an IVR system. In addition, permitted vessels that catch halibut are asked to voluntarily provide additional information on the estimated size of the fish and the time of day caught. The information submitted is needed for the management of the fisheries.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: October 22, 2009.
Gwellnar Banks,
Management Analyst, Office of the Chief Information Officer.

[FR Doc. E9-25767 Filed 10-26-09; 8:45 am]

BILLING CODE 3510-22-P